OFFICE OF PERSONNEL MANAGEMENT

Sumbission for OMB Review: Comment Request for Reclearance of a Revised Information Collection: RI 92-19

Correction

In notice document 04-6520 appearing on page 13913 in the issue of Wednesday, March 24, 2004, make the following correction:

On page 13913, in the third column, in the third paragraph, in the fourth line, “mbtoomy@opm.gov” should read “mbtoomey@opm.gov”.ÿ7E

[FR Doc. C4-6520 Filed 4-8-04; 8:45 am]

BILLING CODE 1505-01-D